SURFACE TRANSPORTATION BOARD

[Docket No. FD 36229]

Union Pacific Railroad Company—Trackage Rights Exemption—West Memphis Base Railroad, L.L.C.

Union Pacific Railroad Company (UP) has filed a verified notice of exemption under 49 CFR 1180.2(d)(7) for exemption of overhead and local trackage rights over a rail line controlled by West Memphis Base Railroad, L.L.C. (WMBR) between milepost 355.539 and milepost 353.281 at West Memphis, Ark. (the Line), a total distance of approximately 2.25 miles.

UP states that the trackage rights agreement between it and WMBR will allow UP to continue serving customers on the Line in the same manner as before WMBR acquired rights over the Line. According to UP, following the sale of the Line by UP's predecessor, Missouri Pacific Railroad Company (Missouri Pacific) to the City of West Memphis, Ark., Missouri Pacific, and later UP, operated over the Line pursuant to an operating agreement between Missouri Pacific and the City of West Memphis.¹

¹ See City of W. Memphis, Ark.—Acquis. & Operation Exemption—Mo. Pac. R.R., FD 32121 (ICC served July 31, 1992); see also W. Memphis Base R.R.—Lease, Operation, & Future Purchase Exemption—City of W. Memphis, Ark., FD 36215 (STB served Sept. 13, 2018).

The transaction may be consummated on or after March 1, 2019, the effective date of the exemption (30 days after the verified notice of exemption was filed).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

If the notice contains false or misleading information, the exemption is void ab initio. Petitions to revoke the exemption under 49 U.S.C. 10502(d) may be filed at any time. The filing of a petition to revoke will not automatically stay the effectiveness of the exemption. Petitions to stay must be filed by February 22, 2019 (at least seven days before the exemption becomes effective).

An original and 10 copies of all pleadings, referring to Docket No. FD 36229, must be filed with the Surface Transportation Board, 395 E Street SW, Washington, DC 20423-0001. In addition, a copy of each pleading must be served on Jeremy Berman, Union Pacific Railroad Company, 1400 Douglas Street, Stop 1580, Omaha, NE 68179.

Board decisions and notices are available at www.stb.gov.

Decided: February 12, 2019.
By the Board, Scott M. Zimmerman, Acting Director, Office of Proceedings.
Tammy Lowery,
Clearance Clerk.

[FR Doc. 2019-02556 Filed 2-14-19; 8:45 am]

BILLING CODE 4915-01-P